DEPARTMENT OF DEFENSE

Office of the Secretary

[Docket ID: DoD-2023-OS-0124]

Proposed Collection; Comment Request

AGENCY: Office of the Under Secretary of Defense for Acquisition and Sustainment (OUSD(A&S)), Department of Defense (DoD).

ACTION: 60-Day information collection notice.

SUMMARY: In compliance with the Paperwork Reduction Act of 1995, the Defense Threat Reduction Agency (DTRA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 20, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to DTRA, 8725 John J. Kingman Road, Stop 6210, Fort Belvoir, VA 22060-6201 Attn: LCDR James D. Franks, USN; or call (800) 462-3683.

SUPPLEMENTARY INFORMATION:

Title; Associated Form; and OMB Number: Nuclear Test Personnel Review Forms; DTRA Form 150, DTRA Form 150A, DTRA Form 150B, DTRA Form 150D; OMB Control Number 0704-0447.

Needs and Uses: The information collection requirement is necessary to provide recognition, verify participation, and/or collect irradiation scenario information from nuclear test participants to perform radiation dose assessments. This information is used to award the Atomic Veterans Service Certificate (AVSC) to eligible veterans and to process claims submitted by veterans seeking radiogenic disease compensation from the Department of Veterans Affairs (VA) and/or the Department of Justice (DOJ). This information may also be used in approved veteran epidemiology studies that study the health impact of nuclear tests on U.S. veterans. Respondents include Veterans and civilian test participants, and their representatives, who apply for the AVSC or file radiogenic disease compensation claims with the VA or DOJ and require information from the Department of Defense.

Affected Public: Individuals or households.

Annual Burden Hours: 113.

Number of Respondents: 278.

Responses per Respondent: 1.

Annual Responses: 278.

Average Burden per Response: 24.4 minutes.

Frequency: On occasion.

Dated: December 15, 2023.
Aaron T. Siegel,
Alternate OSD Federal Register Liaison Officer, Department of Defense.

[FR Doc. 2023-28081 Filed 12-20-23; 8:45 am]

BILLING CODE 6001-FR-P